DEPARTMENT OF HEALTH AND HUMAN SERVICES

Administration for Children and Families

Office of Community Services, Program Expansion Supplement Grant Award

AGENCY: Office of Community Services, ACF, HHS.

ACTION: Notice to award a Program Expansion Supplement Grant.

CFDA Number: 93.710.

Legislative Authority: The legislative authority is provided in the American Recovery and Reinvestment Act of 2009 (ARRA) [Pub. L. 111-5]. Additional legislative authority and requirements are provided in Section 674(b)(2)(B) of the Community Services Block Grant Act (CSBG), as amended, by the Community Opportunity Accountability, and Training and Educational Services (Coats Human Services Reauthorization Act of 1998) [Pub. L. 105-285].

Amount of Award: $500,000.

Project Period: July 1, 2009-June 30, 2010.

Summary: The Office of Community Services (OCS) announces the award of a $500,000 single source program expansion supplement to the National Association for State Community Services Programs (NASCSP), located in Washington, DC, to support performance training and technical assistance on data collection, analysis and dissemination issues faced by state community services programs within the Community Services Block Grant (CSBG) Network; develop performance based reporting tools for ARRA CSBG funded activities; develop and maintain a catalog of innovative programs and practices related to the American Recovery and Reinvestment Act of 2009 (ARRA). The project activities are designed to support and strengthen the ability of the CSBG Network to comply with and carry out CSBG activities funded by ARRA. The training projects and resources developed under the award will include analysis and explanation of the practical impact of ARRA for States and CSBG-eligible entities so that they can work more effectively to reach the ARRA goals and document how they have in fact reached those goals and used the ARRA funds.

Contact for Further Information: Danielle Williams, U.S. Department of Health and Human Services, Office of Community Services, Administration for Children and Families, 370 L'Enfant Promenade, SW., Washington, DC 20047, Telephone: (202) 205-4717, E-mail: Danielle.Williams@acf.hhs.gov.

Dated: September 25, 2009.
Yolanda J. Butler,
Acting Director, Office of Community Services.

[FR Doc. E9-23726 Filed 9-30-09; 8:45 am]

BILLING CODE P